DEPARTMENT OF COMMERCE

International Trade Administration

[A-570-912]

New Pneumatic Off-the-Road Tires From the People's Republic of China: Rescission of New Shipper Review

AGENCY: Import Administration, International Trade Administration, Department of Commerce.

EFFECTIVE DATE: April 30, 2010.

SUMMARY: In response to a request from Yituo Orient Good Friend Tyre Co., Ltd., (“OGF”), the Department of Commerce (the “Department”) published on November 2, 2009, a Federal Register notice announcing the initiation of a new shipper review of the antidumping duty order on new pneumatic off-the-road tires (“OTR tires”) from the People's Republic of China (“PRC”) for the period February 20, 2008, through August 31, 2009. On March 22, 2010, OGF withdrew its request for a new shipper review. Therefore, we are rescinding this new shipper review with respect to OGF.

FOR FURTHER INFORMATION CONTACT: John Hollwitz or Charles Riggle, AD/CVD Operations, Office 8, Import Administration, International Trade Administration, U.S. Department of Commerce, 14th Street and Constitution Avenue, NW, Washington, DC 20230; telephone: (202) 482-2336 and (202) 482-0650, respectively.

SUPPLEMENTARY INFORMATION:

Background

On September 30, 2009, the Department received a timely request from OGF in accordance with section 751(a)(2)(B)(i) of the Tariff Act of 1930, as amended (the “Act”), and 19 CFR 351.214(c), for a new shipper review of the antidumping duty order on OTR tires from the PRC. On November 2, 2009, the Department found that the request for review with respect to OGF met all of the regulatory requirements set forth in 19 CFR 351.214(b) and initiated an antidumping duty new shipper review. See New Pneumatic Off-the-Road Tires from the People's Republic of China: Initiation of New Shipper Review, 74 FR 56575 (“Initiation Notice”). On March 22, 2009, OGF withdrew its request for a new shipper review. On April 12, 2010, we placed on the record and served to parties a memo stating that the Department intended to rescind the above-referenced new shipper review. We allowed parties to comment on the intended rescission by no later than April 19, 2010. See Memorandum to the File regarding: Withdrawal of Request for NSR from OGF, dated April 12, 2010. On April 14, 2010, the Department received a letter from Titan Tire Corporation (“Titan”) stating that Titan had no objection to the Department's intended rescission of the new shipper review. See Letter from Titan regarding: Comments on Proposed Rescission of New Shipper Review, dated April 14, 2010.

Rescission of New Shipper Review

19 CFR 351.214(f)(1) provides that the Department may rescind a new shipper review if the party that requested the review withdraws its request for review within 60 days of the date of publication of the notice of initiation of the requested review. Although OGF withdrew its request after the 60-day deadline, we find it reasonable to extend the deadline because we have not yet committed significant resources to the OGF new shipper review (e.g., we have not issued our preliminary results). Further, in this instance, no other company would be affected by a rescission, and we have received no objections from any party to OGF's withdrawal of its request for this new shipper review. Based upon the above, we are rescinding the new shipper review of the antidumping duty order on OTR tires from the PRC with respect to OGF. See Hand Trucks and Certain Parts Thereof from the People's Republic of China: Notice of Rescission of Antidumping Duty New Shipper Review, 74 FR 31911 (July 6, 2009) (rescinding new shipper review after 60-day deadline on same grounds). As the Department is rescinding this new shipper review, we are not calculating a company-specific rate for OGF, and OGF will remain part of the PRC entity.

Notifications

Because OGF remains part of the PRC entity, its entries may be under review in the ongoing administrative review. Accordingly, the Department will not order liquidation of entries for OGF. The Department intends to issue liquidation instructions for the PRC entity, which will cover any entries by OGF, 15 days after publication of the final results of the ongoing administrative review.

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as the only reminder to parties subject to administrative protective orders (“APO”) of their responsibility concerning the return or destructions of proprietary information disclosed under APO in accordance with 19 CFR 351.305(a). Timely written notification of the return/destruction of APO materials or conversion to judicial protective order is hereby requested. Failure to comply with the regulations and terms of an APO is a violation which is subject to sanction.

We are issuing and publishing this determination and notice in accordance with section 777(i) of the Act and 19 CFR 351.214(f)(3).

Dated: April 26, 2010.
Edward C. Yang,
Acting Deputy Assistant Secretary for Antidumping and Countervailing Duty Operations.

[FR Doc. 2010-10250 Filed 4-29-10; 8:45 am]

BILLING CODE 3510-DS-S